DEPARTMENT OF COMMERCE

International Trade Administration

[A-201-820]

Fresh Tomatoes From Mexico: Termination of Suspension Agreement, Rescission of Administrative Reviews, and Imposition of an Antidumping Duty Order

AGENCY: Enforcement and Compliance, International Trade Administration, Department of Commerce.

SUMMARY: On April 14, 2025, the U.S. Department of Commerce (Commerce) gave 90 days' notice of its intent to withdraw from the 2019 Agreement Suspending the Antidumping Duty Investigation on Fresh Tomatoes from Mexico (2019 Agreement), terminate the 2019 Agreement, and institute an antidumping duty (AD) order. Accordingly, Commerce is withdrawing from and terminating the 2019 Agreement, rescinding both of the ongoing administrative reviews of the 2019 Agreement, and issuing an AD order on fresh tomatoes from Mexico.

DATES: Applicable July 14, 2025.

FOR FURTHER INFORMATION CONTACT: Sally C. Gannon or Jill Buckles, Enforcement and Compliance, International Trade Administration, U.S. Department of Commerce, 1401 Constitution Avenue NW, Washington DC 20230; telephone: (202) 482-0162 or (202) 482-6230, respectively.

SUPPLEMENTARY INFORMATION:

Background

On April 18, 1996, Commerce initiated an AD investigation to determine whether imports of fresh tomatoes from Mexico are being, or are likely to be, sold in the United States at less than fair value (LTFV).¹ On May 16, 1996, the U.S. International Trade Commission (ITC) notified Commerce of its affirmative preliminary injury determination.

¹ See Initiation of Antidumping Duty Investigation: Fresh Tomatoes from Mexico, 61 FR 18377 (April 25, 1996).

On October 10, 1996, Commerce and certain tomato growers/exporters from Mexico initialed a proposed agreement to suspend the AD investigation. On October 28, 1996, Commerce determined imports of fresh tomatoes from Mexico were being sold at LTFV in the United States.² On the same day, Commerce and certain growers/exporters of fresh tomatoes from Mexico signed an agreement to suspend the investigation (1996 Agreement).³

² See Notice of Preliminary Determination of Sales at Less Than Fair Value and Postponement of Final Determination: Fresh Tomatoes from Mexico, 61 FR 56608 (November 1, 1996).

³ See Suspension of Antidumping Investigation: Fresh Tomatoes from Mexico, 61 FR 56618 (November 1, 1996).

On May 31, 2002, certain tomato growers/exporters from Mexico accounting for a significant percentage of all fresh tomatoes imported into the United States from Mexico provided written notice to Commerce of their withdrawal from the 1996 Agreement, effective on July 30, 2002. Because the 1996 Agreement would no longer cover substantially all imports of fresh tomatoes from Mexico, effective July 30, 2002, Commerce terminated the 1996 Agreement, terminated the sunset review of the suspended investigation, and resumed the antidumping investigation.⁴

⁴ See Notice of Termination of Suspension Agreement, Termination of Sunset Review, and Resumption of Antidumping Investigation: Fresh Tomatoes from Mexico, 67 FR 50858 (August 6, 2002).

On November 8, 2002, Commerce and certain tomato growers/exporters from Mexico initialed a proposed agreement suspending the resumed AD investigation on imports of fresh tomatoes from Mexico. On December 4, 2002, Commerce and certain growers/exporters of fresh tomatoes from Mexico signed a new suspension agreement (2002 Agreement).⁵

⁵ See Suspension of Antidumping Investigation: Fresh Tomatoes from Mexico, 67 FR 77044 (December 16, 2002).

On November 26, 2007, certain tomato growers/exporters from Mexico accounting for a significant percentage of all fresh tomatoes imported into the United States provided written notice to Commerce of their withdrawal from the 2002 Agreement, effective 90 days from the date of their withdrawal letter (i.e., February 24, 2008), or earlier, at Commerce's discretion. On November 28, 2007, Commerce and certain tomato growers/exporters from Mexico initialed a new proposed agreement to suspend the AD investigation on imports of fresh tomatoes from Mexico. On December 3, 2007, Commerce released the initialed agreement to interested parties for comment.

Because the 2002 Agreement would no longer cover substantially all imports of fresh tomatoes from Mexico, Commerce published a notice of intent to terminate the 2002 Suspension Agreement, intent to terminate the five-year sunset review of the suspended investigation, and intent to resume the AD investigation.⁶ On January 16, 2008, Commerce published a notice of termination of the 2002 Agreement, termination of the five-year sunset review of the suspended investigation, and resumption of the AD investigation, effective January 18, 2008.⁷ On January 22, 2008, Commerce signed a new suspension agreement (2008 Agreement) with certain growers/exporters of fresh tomatoes from Mexico.⁸

⁶ See Fresh Tomatoes from Mexico: Notice of Intent to Terminate Suspension Agreement, Intent to Terminate the Five-Year Sunset Review, and Intent to Resume Antidumping Investigation, 72 FR 70820 (December 13, 2007).

⁷ See Fresh Tomatoes from Mexico: Notice of Termination of Suspension Agreement, Termination of Five-Year Sunset Review, and Resumption of Antidumping Investigation, 73 FR 2887 (January 16, 2008).

⁸ See Suspension of Antidumping Investigation: Fresh Tomatoes from Mexico, 73 FR 4831 (January 28, 2008).

On August 15, 2012, certain growers/exporters of fresh tomatoes from Mexico filed a letter with Commerce requesting consultations under Section IV.G. of the 2008 Agreement, and Commerce agreed to consult. As a result of these consultations, on February 2, 2013, Commerce and tomato growers/exporters from Mexico accounting for a significant percentage of all fresh tomatoes imports from Mexico initialed a draft agreement. On February 8, 2013, Commerce published a notice of intent to terminate the 2008 Agreement, intent to terminate the five-year sunset review of the suspended investigation, and intent to resume the AD investigation.⁹ On March 1, 2013, Commerce issued a notice of termination of the 2008 Agreement, termination of the five-year sunset review of the suspended investigation, and resumption of the AD investigation.¹⁰ On March 4, 2013, Commerce and certain tomato growers/exporters from Mexico signed a new suspension agreement (2013 Agreement).¹¹

⁹ See Fresh Tomatoes from Mexico: Intent to Terminate Suspension Agreement and Resume Antidumping Investigation and Intent to Terminate Sunset Review, 78 FR 9366 (February 8, 2013).

¹⁰ See Fresh Tomatoes from Mexico: Termination of Suspension Agreement, Termination of Five-Year Sunset Review, and Resumption of Antidumping Investigation, 78 FR 14771 (March 7, 2013).

¹¹ See Fresh Tomatoes from Mexico: Suspension of Antidumping Investigation,78 FR 14967 (March 8, 2013).

On November 14, 2018, the Florida Tomato Exchange (FTE), a member of the U.S. petitioning industry, requested that Commerce terminate the 2013 Agreement and resume the underlying AD investigation. On February 6, 2019, Commerce notified Mexican signatories that Commerce intended to withdraw from the 2013 Agreement, rescind the sunset and administrative reviews, and resume the underlying AD investigation.¹² On May 7, 2019, Commerce withdrew from the 2013 Agreement and issued a notice of termination of the 2013 Agreement, rescission of the administrative review, and resumption of the underlying AD investigation.¹³

¹² See Fresh Tomatoes from Mexico: Intent to Terminate Suspension Agreement, Rescind the Sunset and Administrative Reviews, and Resume the Antidumping Duty Investigation, 84 FR 7872 (March 5, 2019).

¹³ See Termination of Suspension Agreement, Rescission of Administrative Review, and Continuation of the Antidumping Duty Investigation, 84 FR 20858 (May 13, 2019).

On August 20, 2019, Commerce and a representative of Mexican producers/exporters initialed a draft agreement to suspend the AD investigation and invited interested parties to comment.¹⁴ On September 19, 2019, Commerce and representatives of the signatory producers/exporters accounting for substantially all imports of fresh tomatoes from Mexico signed the 2019 Agreement.¹⁵

¹⁴ See Letter to All Interested Parties, “Draft Agreement Suspending the Antidumping Duty Investigation on Fresh Tomatoes from Mexico,” dated August 20, 2019.

¹⁵ See Fresh Tomatoes from Mexico: Suspension of Antidumping Duty Investigation, 84 FR 49987 (September 24, 2019).

On October 11, 2019, the FTE requested continuation of the underlying AD investigation in accordance with section 734(g) of the Tariff Act of 1930, as amended (the Act), and 19 CFR 351.208(h).¹⁶ On October 25, 2019, Commerce issued its final determination that fresh tomatoes from Mexico are being, or are likely to be, sold at LTFV in the United States.¹⁷ On December 12, 2019, the ITC issued its final determination that an industry in the United States is threatened with material injury by reason of imports of fresh tomatoes from Mexico.¹⁸

¹⁶ See FTE's Letter, “Request to Continue Suspended Less Than Fair Value Investigation,” dated October 11, 2019.

¹⁷ See Fresh Tomatoes from Mexico: Final Determination of Sales at Less Than Fair Value, 84 FR 57401 (October 25, 2019) (2019 Final Determination).

¹⁸ See Fresh Tomatoes from Mexico, 84 FR 67958 (December 12, 2019); see also Fresh Tomatoes from Mexico, Inv. 731-TA-747 (Final), USITC Pub. 5003 (December 2019) (ITC Final Determination).

On June 16, 2023, the FTE filed a request that Commerce terminate the 2019 Agreement and institute an AD order in accordance with the affirmative final determinations of Commerce and the ITC.¹⁹

¹⁹ See FTE's Letter, “Request to Terminate Antidumping Suspension Agreement,” dated June 16, 2023.

On August 1, 2024, Commerce initiated a five-year sunset review of the suspended investigation.²⁰ On December 4, 2024, Commerce published in the Federal Register the final results of the five-year expedited sunset review of the suspended investigation. Commerce preliminarily found dumping was likely to continue or recur at weighted-average margins up to 30.48 percent.²¹ The ITC is currently conducting a full five-year sunset review.²²

²⁰ See Initiation of Five-Year (Sunset) Reviews, 89 FR 62717 (August 1, 2024).

²¹ See Fresh Tomatoes from Mexico: Final Results of the Expedited Sunset Review of Suspended Investigation, 89 FR 96214 (December 4, 2024).

²² The ITC is currently due to hold its final vote on September 30, 2025, and issue its determination on October 21, 2025.

On April 14, 2025, in accordance with Section XI.B of the 2019 Agreement, Commerce notified Mexican signatories that Commerce intended to withdraw from the 2019 Agreement.²³

²³ See Fresh Tomatoes from Mexico: Intent to Terminate Suspension Agreement, Rescind an Administrative Review, and Issue an Antidumping Duty Order, 90 FR 16501 (April 18, 2025); see also Memorandum, “Intent to Withdraw from the 2019 Agreement Suspending the Antidumping Duty Investigation on Fresh Tomatoes from Mexico,” dated April 14, 2025.

On April 17, 2025, the U.S. Court of International Trade (CIT) sustained Commerce's remand redetermination in the continued AD investigation of fresh tomatoes from Mexico.²⁴ As a result, on May 1, 2025, Commerce published a notice in the Federal Register regarding its amended final determination with respect to the dumping margin assigned to all Mexican tomatoes producers and exporters individually examined in the continued AD investigation.²⁵

²⁴ See Bioparques de Occidente, S.A. de C.V., et al. v. United States, Slip Op. 25-43 (CIT April 17, 2025).

²⁵ See Fresh Tomatoes from Mexico: Notice of Court Decision Not in Harmony with the Final Determination of Antidumping Duty Investigation; Notice of Amended Final Determination, 90 FR 18645 (May 1, 2025) (Amended Final Determination).

Scope of the Order

The merchandise subject to the order is all fresh or chilled tomatoes (fresh tomatoes) which have Mexico as their origin, except for those tomatoes which are for processing. For purposes of this order, processing is defined to include preserving by any commercial process, such as canning, dehydrating, drying, or the addition of chemical substances, or converting the tomato product into juices, sauces, or purees. Fresh tomatoes that are imported for cutting up, not further processing (e.g., tomatoes used in the preparation of fresh salsa or salad bars), are covered by the order.

Commercially grown tomatoes, both for the fresh market and for processing, are classified as Lycopersicon esculentum. Important commercial varieties of fresh tomatoes include common round, cherry, grape, plum, greenhouse, and pear tomatoes, all of which are covered by this order.

Tomatoes imported from Mexico covered by this order are classified under the following subheading of the Harmonized Tariff Schedule of the United States (HTSUS), according to the season of importation: 0702. Although the HTSUS numbers are provided for convenience and customs purposes, the written description of the scope of this order is dispositive.

Termination of Suspension Agreement

In accordance with Section XI.B of the 2019 Agreement, Commerce is withdrawing from the 2019 Agreement, effective July 14, 2025, which is 90 days after our April 14, 2025, notice to the signatories.²⁶ Accordingly, Commerce is terminating the 2019 Agreement, effective July 14, 2025, and instituting an AD order.

²⁶ Because the effective date for Commerce's withdrawal would fall on the weekend (i.e., Sunday, July 13, 2025), the effective date became the next business day. See Notice of Clarification: Application of “Next Business Day” Rule for Administrative Determination Deadlines Pursuant to the Tariff Act of 1930, As Amended, 70 FR 24533 (May 10, 2005).

Rescission of the Administrative Reviews

Commerce is currently conducting two administrative reviews of the 2019 Agreement. Commerce initiated one review on November 15, 2023, for the period of review from September 1, 2022, through August 31, 2023 (2022-2023 review).²⁷ Commerce initiated an administrative review of the 2019 Agreement on October 17, 2024, for the period of review from September 1, 2023, through August 31, 2024 (2023-2024 review).²⁸ Because Commerce has terminated the 2019 Agreement, there is no longer an agreement of which to conduct an administrative reviews. Therefore, Commerce is rescinding the administrative reviews of the 2019 Agreement, effective on the date of termination of the 2019 Agreement, i.e., July 14, 2025.

²⁷ See Initiation of Antidumping and Countervailing Duty Administrative Reviews, 88 FR 78298 (November 15, 2023).

²⁸ See Initiation of Antidumping and Countervailing Duty Administrative Reviews, 89 FR 83644 (October 17, 2024).

Notification of the U.S. International Trade Commission

Commerce has notified the ITC of its termination of the 2019 Agreement and issuance of the AD order.²⁹

²⁹ See Commerce's Letter, “Termination of Suspension Agreement and Issuance of Antidumping Duty Order,” dated July 14, 2025.

Antidumping Duty Order

As noted above, the underlying AD investigation in this proceeding was continued pursuant to section 734(g) of the Act, following the acceptance of the 2019 Agreement. Commerce made a final affirmative AD determination,³⁰ and the ITC found a threat of material injury.³¹ Therefore, in light of the termination of the 2019 Agreement and the final affirmative determinations issued by Commerce and the ITC, in accordance with section 735(c) of the Act, Commerce is issuing an AD order effective on July 14, 2025.

³⁰ See 2019 Final Determination; see also Amended Final Determination.

³¹ See ITC Final Determination.

Therefore, in accordance with section 736(a)(1) of the Act, Commerce will direct U.S. Customs and Border Protection (CBP) to assess, upon further instruction by Commerce, AD deposits equal to the amount by which the normal value of the merchandise exceeds the export price (or constructed export price) of the merchandise, for all relevant entries of fresh tomatoes from Mexico. Antidumping duties will be assessed on unliquidated entries of fresh tomatoes from Mexico entered, or withdrawn from warehouse, for consumption on or after July 14, 2025.

Suspension of Liquidation and Cash Deposits

In accordance with section 736 of the Act, Commerce will instruct CBP to suspend liquidation on all relevant entries of fresh tomatoes from Mexico that are entered, or withdrawn from warehouse, for consumption on or after July 14, 2025. These instructions suspending liquidation will remain in effect until further notice.

Further, Commerce intends to instruct CBP to require cash deposits equal to the estimated weighted-average dumping margins indicated in the tables below. Accordingly, effective on July 14, 2025, CBP will suspend the entries of liquidation of entries of subject merchandise and require, at the same time as importers would normally deposit estimated duties on subject merchandise, a cash deposit equal to the rates listed in the table below. The all-others rate applies to all producers or exporters not specifically listed, as appropriate.

The estimated weighted-average dumping margins are as published in Commerce's Amended Final Determination as follows

Exporter/manufacturer | Weighted-average dumping margin (percent)
San Vincente Camalu | 2.81
Ernesto Fernando Echavarria Salazar Grupo Solidario | 26.39
Administradora Horticola Del Tamazula | 18.58
Arturo Lomeli Villalobas S.A. de C.V | * 273.43
Ranchos Los Pinos S. de R.L. de C.V | * 273.43
Agricola Yory, S. de P.R. de R.I | * 273.43
Eco-Cultivos S.A. de C.V | * 273.43
All Others | 17.09
* Rate based on facts available with adverse inferences.

Establishment of the Annual Inquiry Service Lists

On September 20, 2021, Commerce published the Final Rule in the Federal Register.³² On September 27, 2021, Commerce also published the Procedural Guidance in the Federal Register.³³ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.

³² See Regulations to Improve Administration and Enforcement of Antidumping and Countervailing Duty Laws, 86 FR 52300 (September 20, 2021) (Final Rule).

³³ See Scope Ruling Application; Annual Inquiry Service List; and Informational Sessions, 86 FR 53205 (September 27, 2021) (Procedural Guidance).

In accordance with the Procedural Guidance, for orders published in the Federal Register after November 4, 2021, Commerce will create an annual inquiry service list segment in Commerce's online e-filing and document management system, Antidumping and Countervailing Duty Electronic Service System (ACCESS), available at https://access.trade.gov, within five business days of publication of the notice of the order. Each annual inquiry service list will be saved in ACCESS, under each case number, and under a specific segment type called “AISL-Annual Inquiry Service List.” ³⁴

³⁴ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list segment per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,³⁵ the new annual inquiry service list will be in place until the following year, when the Opportunity Notice for the anniversary month of the order is published.

³⁵ See Procedural Guidance, 86 FR at 53206.

Commerce may update an annual inquiry service list at any time as needed based on interested parties' amendments to their entries of appearance to remove or otherwise modify their list of members and representatives, or to update contact information. Any changes or announcements pertaining to these procedures will be posted to the ACCESS website at https://access.trade.gov.

Special Instructions for the Petitioner and Foreign Governments

In the Final Rule, Commerce stated that, “after an initial request and placement on the annual inquiry service list, both petitioners and foreign governments will automatically be placed on the annual inquiry service list in the years that follow.” ³⁶ Accordingly, as stated above, the petitioner and foreign governments should submit their initial entries of appearance after publication of this notice in order to appear in the first annual inquiry service lists for this order. Pursuant to 19 CFR 351.225(n)(3), the petitioner and foreign governments will not need to resubmit their entries of appearance each year to continue to be included on the annual inquiry service list. However, the petitioner and foreign governments are responsible for making amendments to their entries of appearance during the annual update to the annual inquiry service list in accordance with the procedures described above.

³⁶ See Final Rule, 86 FR at 52335.

Notification to Interested Parties

This notice constitutes the AD order with respect to fresh tomatoes from Mexico, pursuant to section 736(a) of the Act. Interested parties can find a list of AD and countervailing duty orders currently in effect at https://enforcement.trade.gov/stats/iastats1.html.

This order is issued and published in accordance with section 736(a) of the Act and 19 CFR 351.211(b).

Dated: July 14, 2025.
Christopher Abbott,
Deputy Assistant Secretary for Policy and Negotiations, performing the non-exclusive functions and duties of the Assistant Secretary for Enforcement and Compliance.

[FR Doc. 2025-13453 Filed 7-16-25; 8:45 am]

BILLING CODE 3510-DS-P